INTER-AMERICAN FOUNDATION

60-Day Notice for Soliciting and Assessing Feedback From IAF Grantees (PRA)

AGENCY: Inter-American Foundation.

ACTION: Notice.

SUMMARY: The Inter-American Foundation (IAF), as part of its continuing efforts to reduce paperwork and respondent burden, conducts a preclearance consultation program to provide the general public and federal agencies with an opportunity to comment on proposed and/or continuing collections of information in accordance with the Paperwork Reduction Act of 1995. This program helps ensure that requested data is provided in the desired format; reporting burden (time and financial resources) is minimized; collection instruments are clearly understood; and the impact of collection requirements on respondents is properly assessed.

DATES: Written comments must be submitted to the office listed in the address section below within 60 days from the date of this publication in the Federal Register.

ADDRESSES: Send comments to Kaitlin Stastny, Inter-American Foundation, via email to kstastny@iaf.gov.

SUPPLEMENTARY INFORMATION: The IAF works to promote sustainable development in Latin America and the Caribbean by offering small investments directly to civil society organizations through funding actions, such as grants and cooperative agreements. By gathering perceptions from grantees on how the IAF works as a funder, the IAF is able to assess its performance and identify opportunities for improvements. The IAF seeks to work with a contractor to independently carry out this survey with IAF grantees. The contractor will use an online survey with a set of standardized questions focused primarily on grant processes, such as the approach to grant selection, the time lapse between selection and commitment, and reporting and evaluation. The contractor will also apply these standardized questions to other funders, thus providing the IAF with findings relative to that of other comparable organizations. The IAF is particularly interested in comments which:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Can help the agency minimize the burden of the collection of information on those who are to respond, including through the use of appropriate automated, electronic, mechanical, or other technological collection techniques or other forms of information technology, e.g., permitting electronic submission of responses.

A Notice by the Inter-American Foundation on August 24, 2022.
Natalia Mandrus,
Acting General Counsel.

[FR Doc. 2022-18603 Filed 8-29-22; 8:45 am]

BILLING CODE 7025-01-P